GENERAL SERVICES ADMINISTRATION

[Notice-2015-QVO-01; Docket No. 2015-0002; Sequence 12]

Federal Procurement Data System Product Service Code Manual Update

AGENCY: Federal Acquisition Service; General Services Administration.

ACTION: Notice.

SUMMARY: This notice announces that the Product and Service Codes (PSC) Manual, which provides codes to describe products, services, and research and development purchased by the government, is in the process of being updated. The General Services Administration (GSA), which maintains the PSC Manual, is in the process of updating the manual. The update includes the addition, deletion or revisions of codes. The revised PSC Manual will be effective October 1, 2015 (FY 2016).

DATES: Effective: May 28, 2015.

Comments: Interested parties should submit written comments to the Regulatory Secretariat at one of the addresses shown below on or before June 29, 2015.

ADDRESSES: Submit comments, June 29, 2015, identified by Notice-2015-QVO-01, Federal Procurement Data System Product and Service Codes Manual Update, by any of the following methods:

• Regulations.gov: http://www.regulations.gov. Submit comments via the Federal eRulemaking portal by searching for Notice-2015-QVO-01. Select the link “Comment Now” that corresponds with “Notice-2015-QVO-01, Federal Procurement Data System Product and Service Codes Manual Update”. Follow the instructions provided on the screen. Please include your name, company name (if any), and “Notice-2015-QVO-01, Federal Procurement Data System Product and Service Codes Manual Update,” on your attached document.

• Mail: General Services Administration, Regulatory Secretariat Division (MVCB), 1800 F Street NW., Washington, DC 20405. ATTN: Ms. Flowers.

Instructions: Please submit comments only and cite Notice-2015-QVO-01, Federal Procurement Data System Product and Service Codes Manual Update, in all correspondence related to this notice. All comments received will be posted without change to http://www.regulations.gov, including any personal and/or business confidential information provided.

FOR FURTHER INFORMATION CONTACT: Ms. Pat Brooks at pat.brooks@gsa.gov or 703-605-3406.

SUPPLEMENTARY INFORMATION: The Product and Service Codes (PSC) Manual provides codes to describe products, services, and research and development purchased by the government. The codes are one of the data elements reported in the Federal Procurement Data System (FPDS). The GSA, which maintains the PSC Manual, is in the process of updating the manual. The update includes the addition, deletion or revisions of codes.

The list of PSC code revisions is titled “Notice-2015-QVO-01; Docket No. 2015-0002; Sequence 12, Federal Procurement Data System Product and Service Codes Manual” and is viewable and searchable on regulation.gov. The current manual titled “Federal Procurement Data System Product and Service Codes Manual, August 2011 Edition” is also posted on regulation.gov. A thirty (30) day comment period is available.

Dated: May 19, 2015.
Karen Kopf,
Acting Assistant Commissioner, Integrated Award Environment, Federal Acquisition Service.

[FR Doc. 2015-12891 Filed 5-27-15; 8:45 am]

BILLING CODE 6820-89-P